DEPARTMENT OF STATE

[Public Notice 6557]

Notice of Meeting

Title: Defense Trade Advisory Group; Notice of Meeting April 7, 2009.

SUMMARY: The Defense Trade Advisory Group (DTAG) will meet on April 7, 2009 from 9:30 a.m. to 1 p.m. in the Loy Henderson Conference Room at the U.S. Department of State, Harry S. Truman Building, Washington, DC. The meeting will be open to the public. Entry and registration will begin at 8:45 a.m. Please use the building entrance located at 23rd Street, NW., Washington, DC between C & D Streets. The purpose of the meeting will be to discuss current defense trade issues and topics for further study.

As access to the Department of State facilities is controlled, persons wishing to attend the meeting must notify the DTAG contact person by COB Tuesday, March 31, 2009. If notified after this date, the DTAG Secretariat cannot guarantee that the Department's Bureau of Diplomatic Security can complete the necessary processing required to attend the April 7 plenary. Each non-member observer or DTAG member needing building access that wishes to attend this plenary session should provide: his/her name; company or organizational affiliation; phone number; date of birth; and identifying data such as driver's license number, U.S. Government ID, or U.S. Military ID, to the DTAG contact person, Allie Frantz, via e-mail at FrantzA@state.gov. DTAG members planning to attend the plenary session should notify the DTAG contact person, Allie Frantz, at the e-mail provided above. A RSVP list will be provided to Diplomatic Security and the Reception Desk at the 23rd Street Entrance. One of the following forms of valid photo identification will be required for admission to the Department of State building: U.S. driver's license, U.S. passport, U.S. Government ID or other valid photo ID.

DATES: The DTAG meeting will be held on April 7, 2009 from 9:30 a.m. to 1 p.m. and is open to the public.

ADDRESSES: The meeting will be held in the Loy Henderson Conference Room at the U.S. Department of State, Harry S. Truman Building, Washington DC DTAG members and non-member observers are required to pre-register due to security reasons.

FOR FURTHER INFORMATION CONTACT: Members of the public who need additional information regarding these meetings or the DTAG should contact the DTAG contact person, Allie Frantz, PM/DDTC, SA-1, 12th Floor, Directorate of Defense Trade Controls, Bureau of Political-Military Affairs, U.S. Department of State, Washington, DC 20522-0112; telephone (202) 736-9220; FAX (202) 261-8199; or e-mail FrantzA@state.gov.

SUPPLEMENTARY INFORMATION:

(a) Background

The membership of this advisory committee consists of private sector defense trade representatives who advise the Department on policies, regulations, and technical issues affecting defense trade. Individuals interested in defense trade issues are invited to attend and will be able to participate in the discussion in accordance with the Chair's instructions. Members of the public may, if they wish, submit a brief statement to the committee in writing.

April 7, 2009 9:30 a.m. to 1 p.m. Meeting—Topics for discussion and assigned time frames are as follows: 9:30-9:45 Call to order by DTAG Chairman. 9:45-10:15 Opening Remarks from Department of State Official(s). 10:15-11:45 DTAG Working Group on the ITAR Definitions presentation. 11:45-12 Break. 12-12:45 Discussion of new administration priorities. 12:45-1 Closing Remarks.

(b) Procedures for Providing Public Comments

The DTAG will accept written public comments as well as oral public comments. Comments should be relevant to the topics for discussion. Public participation at the open meeting will be based on recognition by the chair and may not exceed 5 minutes per speaker. Written comments should be sent to the DTAG Executive Secretariat contact person no later than March 31, 2009 so that the comments may be made available to the DTAG members for consideration.

Written comments should be supplied to the DTAG Executive Secretariat contact person at the mailing address or e-mail provided above, in Adobe Acrobat or Word format.

Note: The DTAG operates under the provisions of the Federal Advisory Committee Act, as amended, and all public comments will be made available for public inspection, and might be posted on DDTC's Web site.

(c) Meeting Accommodations

Individuals requiring special accommodation to access the open meeting referenced above should contact Ms. Frantz at least five business days prior to the meeting so that appropriate arrangements can be made.

Dated: March 17, 2009.
Robert S. Kovac,
Designated Federal Official, Defense Trade Advisory Group, Department of State.

[FR Doc. E9-6423 Filed 3-23-09; 8:45 am]

BILLING CODE 4710-25-P